FEDERAL COMMUNICATIONS COMMISSION

Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before August 31, 2012. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION:

OMB Control Number: 3060-0819.

Title: Lifeline and Link Up Reform and Modernization, Advancing Broadband Availability Through Digital Literacy Training.

Form Number: FCC Form 497; Low-Income Broadband Pilot Program Reporting Form; Low-Income Broadband Pilot Program Participation Form; and FCC Form 555, Annual Lifeline Eligible Telecommunications Carrier Certification Form.

Type of Review: Revision of a currently approved collection.

Respondents: Individuals or households and business or other for-profit institutions.

Number of Respondents and Responses: 16,100,940 respondents; 41,828,019 responses.

Estimated Time per Response: .58 hours.

Frequency of Response: On occasion reporting requirement and third party disclosure requirement.

Obligation to Respond: Required to obtain or retain benefits.

Total Annual Burden: 24,185,658 hours.

Total Annual Cost: N/A.

Privacy Act Impact Assessment: The Commission adopted rules that affect individuals or households, and thus, there are impacts under the Privacy Act. As required by the Privacy Act of 1974, as amended, 5 U.S.C. 552a, the Commission will create a system of records notice (SORN) to cover the collection, storage, maintenance, and disposal (when appropriate) of any personally identifiable information that the Commission may collect as part of the information collection.

Nature and Extent of Confidentiality: The Commission is not requesting that respondents submit confidential information to the FCC. However, respondents may request confidential treatment of their information under 47 CFR 0.459 http://web2.westlaw.com/find/default.wl?mt=FederalGovernment&db=1000547&docname=47CFRS0.459&rp=%2ffind%2fdefault.wl&findtype=L&ordoc=0346209484&tc=-1&vr=2.0&fn=_top&sv=Split&tf=-1&pbc=B87EBF2A&rs=WLW12.04 of the Commission's rules.

Needs and Uses: This collection is being submitted as a revision to a currently approved collection. In January 2012, the Commission adopted an order reforming and modernizing its Lifeline universal service program. Lifeline and Link-Up Reform and Modernization; Lifeline and Link-Up; Federal-State Joint Board on Universal Service; Advancing Broadband Availability Through Digital Literacy Training, WC Docket Nos. 11-42, 03-109, 12-23; CC Docket No. 96-45, FCC 12-11. The Commission seeks extension of previously approved requirements and approval of additional reforms adopted in this order.

Previously Approved Collection Requirements. The order makes a number of changes to the Lifeline program, which was approved by OMB on April 13, 2012. The Commission seeks an extension of these previously approved requirements. Specifically, the order established an interim flat rate for reimbursement for non-Tribal Lifeline support and adjusted the amount of support for TLS and Link Up. These changes necessitated the need for USAC to revise its FCC Form 497. Additionally, the order reduces the window by which ETCs must file revisions or original FCC Form 497 submissions from 15 months from the end of the calendar year to a rolling 12 month window. ETCs will also now be required to file the FCC Form 497 monthly rather than having the option of filing either monthly or quarterly. The Commission also will accelerate USAC's payment of low-income support for carriers filing the FCC Form 497 electronically by a monthly deadline.

The order also adopts a rule, section 54.422, whereby ETCs providing Lifeline services to low-income consumers must include information regarding the company's holding company, operating companies, affiliates, and any branding in their annual reports to the Commission. In addition, all ETCs receiving low-income support are required to annually provide to the Commission and USAC general information regarding their Lifeline plans for voice telephony service offered specifically for low-income consumers.

The order requires ETCs (or the state administrator, where applicable) to check the program-based eligibility of new Lifeline subscribers at enrollment by accessing available state or federal eligibility databases. Where the underlying program eligibility data cannot be accessed, the Commission requires new Lifeline subscribers to provide documentation of program-based eligibility, which the entity enrolling the subscriber should review (but not retain). Low-income consumers who qualify based on income are also required to provide documentation. Under 47 CFR 54.410(d), ETCs, or the state administrator, where applicable, are required to collect an executed certification form from each qualifying low-income consumer that includes consumer identifying information and attestation from the consumer that they understand the purpose of the Lifeline program and their responsibilities in receiving the discounted service. The order also adopts a rule, 47 CFR 54.410(d)(3)(iii), whereby Lifeline consumers have 30 days from moving to a new address within which to notify their respective ETCs of the change of residential address.

The order replaces the existing verification rule contained in 47 CFR 54.409 (c) with a new rule, 47 CFR 54.410(f) requiring ETCs to confirm the eligibility of all their Lifeline subscribers on an annual basis. Carriers may fulfill this requirement by querying a database maintained by a state agency or third party for that purpose, when applicable. This new rule, in conjunction with 47 CFR 54.405(e)(4), also requires that consumers who do not respond to annual re-certification attempts must be de-enrolled from the Lifeline program (and the database must be updated accordingly).

The order directs USAC to continue with the Duplicate Resolution Process by identifying and resolving duplicative Lifeline claims in states identified by the Wireline Competition Bureau. ETCs are required to supply subscriber lists and de-enroll subscribers found to be duplicates.

The order also adopts a national database to detect and eliminate duplicative Lifeline and Link-Up support. With respect to populating the duplicates database, the Commission adopts a rule requiring ETCs, prior to transmission to the administrator, to verify and standardize the relevant data, and transmit the relevant data to the database administrator in the format prescribed.

The order also adopts rules with respect to maintaining the duplicates database. When notified of any change of information, ETCs are required to update the duplicates database within 10 business days. In addition, ETCs are required to update the database within one business day of de-enrollment of any consumer. The Commission seeks an extension of these previously approved requirements regarding the verification, certification and re-certification requirements, including use of databases and participation in the duplicates process.

The order adopts a rule, 47 CFR 54.405(e)(3), requiring pre-paid ETCs offering service to subscribers for free to de-enroll subscribers who fail to “use” the service (as that term is defined in the order) within 60 consecutive days and update the duplicates database within one business day of such de-enrollment. As described above, ETCs must report the number of consumers de-enrolled every month on the revised FCC Form 497. The Commission seeks an extension of these previously approved requirements.

The order also implements a rule allowing ETCs and state agencies to obtain Lifeline subscriber certifications electronically, including through the use of interactive voice response systems, in compliance with the requirements of the E-Sign Act and the Government Paperwork Elimination Act. The E-Sign Act allows the use of electronic records to satisfy Commission regulations requiring that such information be provided in writing, if the consumer has affirmatively consented to such use and has not withdrawn such consent. This rule will reduce the paperwork burden for ETCs and state agencies.

The order requires USAC to revise its existing oversight program (the Beneficiary Compliance Audit and Payment Quality Assurance programs) in light of the new rules. In the order, the Commission modifies the audit requirements of 47 CFR 54.420(b) by requiring USAC to conduct audits of new ETCs within the first twelve months of their seeking federal low-income Universal Service Fund support within any single state to ensure their compliance with the rules as well as assess the company's internal controls regarding the regulatory requirements. The Commission seeks an extension of these previously approved audit requirements for new ETCs.

In the order, the Commission forbears from applying the Act's facilities requirement of section 214(e)(1)(A) to all telecommunications carriers that seek limited ETC designation to participate in the Lifeline program, subject to certain conditions. Specifically, each carrier must (i) comply with certain 911 requirements; and (ii) file, subject to Bureau approval, a compliance plan providing specific information regarding the carrier's service offerings and outlining the measures the carrier will take to implement the obligations contained in the order.

In the order, the Commission makes several modifications to the existing rules regarding designation of Lifeline-only ETCs to eliminate waste and inefficiency, and to increase accountability in the program. The Commission amends section 54.202 to clarify that Lifeline-only ETCs are not required to submit a five-year improvement plan as part of its application for designation.

The order also amends section 54.202 by requiring carriers seeking to be designated as a Lifeline-only ETC to demonstrate their technical and financial capacity to provide the supported services. Additionally, in the order the Commission amends section 54.202 to require every ETC receiving low-income support to annually provide to the Commission and USAC general information regarding their Lifeline plans for voice telephony service offered specifically for low-income consumers. Finally, section 54.202 requires that a carrier seeking to be designated as an ETC certify that it will comply with the service requirements applicable to the support that it receives. The Commission seeks an extension of these previously approved requirements regarding the blanket forbearance grant for non-facilities-based carriers and the specific requirements to be designated as a Lifeline-only ETC.

The order establishes a broadband pilot program aimed at generating statistically significant data that will allow the Commission, ETCs, and the public to analyze the effectiveness of different approaches to using Lifeline funds to making broadband more affordable for low-income Americans while providing support that is sufficient but not excessive. The order directs the Wireline Competition Bureau to release a Public Notice setting forth the application requirements for ETCs that intend on submitting an application to participate in the pilot program, which will be due July 2, 2012. The Commission seeks an extension of these previously approved requirements regarding the collection of information to be included in applications and participation in the broadband pilot program.

Revised Information Collection Requirements. The Commission seeks OMB approval to revise the information collection as follows.

The order requires that ETCs report the results of their annual recertification process to USAC utilizing the Annual Lifeline Eligible Telecommunications Carrier Certification Form, FCC Form 555.

The order adopts a rule, 47 CFR 54.405(c), requiring all ETCs to include plain, easy-to-understand language in all of their Lifeline marketing materials to explain to consumers that the offering is a Lifeline supported-service; that Lifeline is a government assistance program; that only eligible consumers may enroll in the program; what documentation is necessary for enrollment; and that the program is limited to one benefit per household, consisting of either a wireline or wireless service. Additionally, the order requires ETCs to disclose the company name under which it does business and the details of its Lifeline service offerings in its Lifeline-related marketing and advertising. ETCs are required to explain that Lifeline is a government benefit program, and consumers who willfully make false statements in order to obtain the benefit can be punished by fine or imprisonment or can be barred from the program. The Commission seeks approval of these marketing requirements as adopted in the order.

The order further modifies the audit requirements of 47 CFR 54.420(a) by adopting a new requirement whereby ETCs drawing more than an aggregate of $5 million annually from the Lifeline fund, on a holding company basis, must conduct biennial independent audits and present audit reports to the Administrator, the Commission, and any applicable state or Tribal government agency within 90 days of the issuance of the audit report. The Commission seeks approval of the biennial audit requirements as adopted in the order.

The order authorizes up to $25 million for funding of the Broadband Pilot Program to be disbursed directly to ETCs for up to 12 months of subsidized broadband service either through bundles of voice and broadband services or as standalone broadband service. To receive reimbursement for approved subsidies, ETCs selected to participate in the Broadband Pilot Program will have to complete the Low Income Broadband Reimbursement Form on a monthly basis and submit to USAC (i) any monthly discount of broadband service; (ii) applicable discount amount for voice telephony service if the broadband subscriber is also subscribing to voice telephony service under the Lifeline program; and (iii) any non-recurring fees for broadband provided to subscribers participating in the Pilot Program and approved as part of the pilot program. The Commission seeks approval of the Low Income Broadband Reimbursement Form for carriers participating in the pilot program.

The order also requires ETCs selected to participate in the Pilot Program to commit to data gathering and sharing of subscribers' anonymized data. USAC will be tasked with collecting data from ETCs regarding the ETCs' projects, and subscriber demographics and broadband usage pursuant to a uniform set of questions set forth in the Low Income Broadband Pilot Program Reporting Form. ETCs may collect the data from subscribers themselves and submit to USAC, or may request that USAC collect the subscriber data directly from ETCs' subscribers. The Commission seeks approval of the Low Income Broadband Pilot Program Reporting Form to be used by participants in the pilot program.

Federal Communications Commission.
Marlene H. Dortch,
Secretary, Office of the Secretary, Office of Managing Director.

[FR Doc. 2012-16125 Filed 6-29-12; 8:45 am]

BILLING CODE 6712-01-P